NATIONAL TRANSPORTATION SAFETY BOARD

Notice of Sunshine Act Meeting Cancellation

The National Transportation Safety Board has cancelled the virtual Sunshine Act meeting previously scheduled for Tuesday, December 13, 2022. The matter scheduled to be considered at the Sunshine Act meeting was the Safety Research Report—Alcohol, Other Drug, and Multiple Drug Use Among Drivers.

NEWS MEDIA CONTACT: (202) 314-6100.

FOR MORE INFORMATION: Contact Candi Bing, (202) 314-6403, or bingc@ntsb.gov.

Signed: Thursday, December 8, 2022.
Candi R. Bing,
Federal Register Liaison Officer.

[FR Doc. 2022-26990 Filed 12-8-22; 4:15 pm]

BILLING CODE 7533-01-P